ENVIRONMENTAL PROTECTION AGENCY

[FRL-9950-42-OA]

Request for Nominations for a Science Advisory Board Panel To Review Risk and Technology Review Screening Methods

AGENCY: Environmental Protection Agency (EPA).

ACTION: Notice.

SUMMARY: The EPA Science Advisory Board (SAB) Staff Office requests public nominations of scientific experts to form a Panel to review the draft EPA report entitled “Screening Methodologies to Support Risk and Technology Reviews (RTR).” This draft report describes newly developed screening methods designed to assess the risk to public health and the environment that would remain after stationary sources of hazardous air pollutants come into compliance with the EPA's Maximum Available Control Technologies (MACT) standards.

DATES: Nominations should be submitted by August 30, 2016 per the instructions below.

FOR FURTHER INFORMATION CONTACT: Any member of the public wishing further information regarding this Notice and Request for Nominations may contact the Designated Federal Officer. Nominators unable to submit nominations electronically as described below may contact the Designated Federal Officer for assistance. General information concerning the EPA SAB can be found at the EPA SAB Web site at http://www.epa.gov/sab.

SUPPLEMENTARY INFORMATION:

Background: The SAB (42 U.S.C. 4365) is a chartered Federal Advisory Committee that provides independent scientific and technical peer review, advice, and recommendations to the EPA Administrator on the technical basis for EPA actions. As a Federal Advisory Committee, the SAB conducts business in accordance with the Federal Advisory Committee Act (FACA) (5 U.S.C. App. 2) and related regulations. The SAB RTR Methods Review Panel will provide advice through the chartered SAB on scientific and technical issues related to assessing risks to public health and the environment from hazardous air pollutants. The SAB and this Panel will comply with the provisions of FACA and all appropriate SAB Staff Office procedural policies.

EPA's Office of Air and Radiation (OAR) has prepared a draft report entitled “Screening Methodologies to Support Risk and Technology Reviews (RTR): A Case Study Analysis.” The Clean Air Act (CAA) establishes a two-stage regulatory process for addressing emissions of hazardous air pollutants (HAPs) from stationary sources. In the first stage, the CAA requires the EPA to develop technology-based standards, known as Maximum Achievable Control Technology (MACT) standards, for categories of industrial sources. In the second stage, the EPA must review each MACT standard at least every eight years and revise them as necessary, taking into account developments in practices, processes and control technologies. EPA must also conduct an assessment of the health and environmental risks that remain after stationary sources come into compliance with the MACT standards. Periodically, the SAB is asked to review the methods that OAR uses to estimate risks as these methods evolve or as new methods are developed. Thus, OAR has requested the SAB to review EPA's draft report that describes newly enhanced screening methods designed to estimate the potential risks to public health and the environment that would remain after stationary sources of HAPs come into compliance with EPA's MACT standards. These include screening methods to estimate the potential for multi-pathway risks (e.g., ingestion, inhalation) from persistent and bioaccumulative HAPs, screening methods to estimate potential environmental risks, and recent enhancements to the EPA's inhalation risk assessment methodology. The SAB Staff Office is forming an expert panel, the SAB RTR Methods Review Panel, under the auspices of the Chartered SAB to conduct this review.

Technical Contact for EPA's draft report: For information concerning the draft report “Screening Methodologies to Support Risk and Technology Reviews (RTR): A Case Study Analysis” please contact Dr. Michael Stewart by email at stewart.michael@epa.gov or phone (919) 541-7524.

Request for Nominations: The SAB Staff Office is seeking nominations of nationally and internationally recognized scientists with demonstrated expertise in the following disciplines: Human health risk assessment, ecological risk assessment, exposure assessment, toxicology, ecology, aquatic toxicology, air toxics, and dispersion modeling. Additional information about this advisory activity is available on the SAB Web site at http://yosemite.epa.gov/sab/sabproduct.nsf/fedrgstr_activites/RTR%20Screening%20Methods%20Review?OpenDocument. Questions regarding this advisory activity should be directed to Dr. Suhair Shallal, Designated Federal Officer (DFO), SAB Staff Office, by telephone/voice mail at (202) 564-2057, by fax at (202) 565-2098, or via email at shallal.suhair@epa.gov.

Process and Deadline for Submitting Nominations: Any interested person or organization may nominate qualified individuals in the areas of expertise described above for possible service on the SAB RTR Methods Review Panel identified in this notice. Individuals may self-nominate. Nominations should be submitted in electronic format (preferred over hard copy) following the instructions for “Nominating Experts to Advisory Panels and Ad Hoc Committees Being Formed,” provided on the SAB Web site (see the “Nomination of Experts” link under “Current Activities” at http://www.epa.gov/sab). To receive full consideration, nominations should include all of the information requested below.

EPA's SAB Staff Office requests contact information about the person making the nomination; contact information about the nominee; the disciplinary and specific areas of expertise of the nominee; the nominee's resume or curriculum vitae; sources of recent grant and/or contract support; and a biographical sketch of the nominee indicating current position, educational background, research activities, and recent service on other national advisory committees or national professional organizations.

Persons having questions about the nomination procedures, or who are unable to submit nominations through the SAB Web site, should contact Dr. Shallal as indicated above in this notice. Nominations should be submitted in time to arrive no later than August 30, 2016. EPA values and welcomes diversity. In an effort to obtain nominations of diverse candidates, EPA encourages nominations of women and men of all racial and ethnic groups.

The EPA SAB Staff Office will acknowledge receipt of nominations. The names and biosketches of qualified nominees identified by respondents to this Federal Register notice, and additional experts identified by the SAB Staff Office, will be posted in a List of Candidates for the panel on the SAB Web site at http://www.epa.gov/sab. Public comments on the List of Candidates will be accepted for 21 days. The public will be requested to provide relevant information or other documentation on nominees that the SAB Staff Office should consider in evaluating candidates.

For the EPA SAB Staff Office a balanced review panel includes candidates who possess the necessary domains of knowledge, the relevant scientific perspectives (which, among other factors, can be influenced by work history and affiliation), and the collective breadth of experience to adequately address the charge. In forming the expert panel, the SAB Staff Office will consider public comments on the Lists of Candidates, information provided by the candidates themselves, and background information independently gathered by the SAB Staff Office. Selection criteria to be used for panel membership include: (a) Scientific and/or technical expertise, knowledge, and experience (primary factors); (b) availability and willingness to serve; (c) absence of financial conflicts of interest; (d) absence of an appearance of a loss of impartiality; (e) skills working in committees, subcommittees and advisory panels; and, (f) for the panel as a whole, diversity of expertise and scientific points of view.

The SAB Staff Office's evaluation of an absence of financial conflicts of interest will include a review of the “Confidential Financial Disclosure Form for Environmental Protection Agency Special Government Employees” (EPA Form 3110-48). This confidential form allows government officials to determine whether there is a statutory conflict between a person's public responsibilities (which include membership on an EPA federal advisory committee) and private interests and activities, or the appearance of a loss of impartiality, as defined by federal regulation. The form may be viewed and downloaded from the following URL address http://yosemite.epa.gov/sab/sabproduct.nsf/Web/ethics?OpenDocument.

The approved policy under which the EPA SAB Office selects members for subcommittees and review panels is described in the following document: Overview of the Panel Formation Process at the Environmental Protection Agency Science Advisory Board (EPA-SAB-EC-02-010), which is posted on the SAB Web site at https://yosemite.epa.gov/sab/sabproduct.nsf/WebFiles/OverviewPanelForm/$File/ec02010.pdf.

Dated: August 3, 2016.
Thomas H. Brennan,
Deputy Director, Science Advisory Board Staff Office.

[FR Doc. 2016-18881 Filed 8-8-16; 8:45 am]

BILLING CODE 6560-50-P